DEPARTMENT OF COMMERCE

National Oceanic and Atmospheric Administration

[RTID 0648-XE828]

Endangered and Threatened Species; Initiation of 5-Year Reviews for Six Foreign Elasmobranch Species

AGENCY: National Marine Fisheries Service (NMFS), National Oceanic and Atmospheric Administration (NOAA), Commerce.

ACTION: Notice; request for information.

SUMMARY: NMFS announces the initiation of 5-year reviews of six foreign elasmobranch species: Argentine angelshark (Squatina argentina), spiny angelshark (S. guggenheim), narrownose smoothhound shark (Mustelus schmitti), striped smoothhound shark (M. fasciatus), common guitarfish (Rhinobatos rhinobatos), and blackchin guitarfish (R. cemciculus). The Endangered Species Act (ESA) requires us to conduct a review of listed species at least once every 5 years to determine whether a species should be removed from the list (i.e., delisted), reclassified from an endangered species to a threatened species (i.e., downlisted), or reclassified from a threatened species to an endangered species (i.e., uplisted). The determination must be based on the best scientific and commercial data available at the time of the review. Therefore, we request relevant data (e.g., biology, threats, and conservation efforts) that have become available since the previous reviews of these species.

DATES: To allow us adequate time to conduct the 5-year reviews, we must receive your information no later than September 15, 2025. While we accept new information about any listed species at any time, information received after the date stated above may not be considered for these reviews.

ADDRESSES: Submit your information electronically via the Federal eRulemaking Portal. Go to https://www.regulations.gov and enter NOAA-NMFS-2025-0033 in the Search box. Click the “Comment” icon, complete the required fields, and enter or attach your comments.

Instructions: We may not consider comments or information sent by another method, to another address or individual, or received after the date stated above. All comments and information received are a part of the public record, and we will post the comments for public viewing on https://www.regulations.gov. All personal identifying information (e.g., name, address, etc.) submitted voluntarily by the sender will be publicly accessible. Do not submit confidential business information or otherwise sensitive or protected information. We will accept anonymous comments. Enter “N/A” in the required fields to remain anonymous.

FOR FURTHER INFORMATION CONTACT: Jennifer Schultz, Office of Protected Resources, 301-427-8443, jennifer.schultz@noaa.gov.

SUPPLEMENTARY INFORMATION: We are initiating the 5-year reviews of six foreign elasmobranch species, including three endangered species (Argentine angelshark, spiny angelshark, and striped smoothhound shark) and three threatened species (narrownose smoothhound shark, common guitarfish, and blackchin guitarfish). Section 4(c)(2) of the ESA requires us to conduct a review of listed species at least once every 5 years to determine whether species should be removed from the list, changed in status from an endangered species to a threatened species, or changed in status from a threatened species to an endangered species (16 U.S.C. 1533(c)(2)). Section 4(a)(1) of the ESA requires us to determine whether any species is an endangered or threatened species because of any of the following factors: (A) the present or threatened destruction, modification, or curtailment of its habitat or range; (B) overutilization for commercial, recreational, scientific, or educational purposes; (C) disease or predation; (D) the inadequacy of existing regulatory mechanisms; or (E) other natural or manmade factors affecting its continued existence (16 U.S.C. 1533(a)(1)). Section 4(b)(1)(A) of the ESA requires us to make the determination based solely on the best scientific and commercial data available at the time of the review and after taking into account efforts to protect the species (16 U.S.C. 1533(b)(1)(A)). Regulations (50 CFR 424.21) require us to publish a notice in the Federal Register announcing species under active review.

In 2015, we published status reviews of the Argentine angelshark, spiny angelshark, striped smoothhound shark, and narrownose smoothhound shark. In 2017, we published a status review of the common and blackchin guitarfishes. These status reviews and additional information on the species are available on NMFS' website: https://www.fisheries.noaa.gov/national/endangered-species-conservation/foreign-species. After reviewing information available since the publication of these status reviews, we will make our determinations regarding the classification of these species and publish them on NMFS' website. Any recommended changes (i.e., delistings and/or reclassifications) would require a separate rulemaking process.

Public Solicitation of Relevant Information

To ensure that the 5-year reviews are based on the best scientific and commercial data available, we are soliciting information from the public, governmental agencies, Tribes, the scientific community, industry, environmental organizations, and other interested parties. We request information that has become available since the previous reviews were published in 2015 (Argentine and spiny angelsharks and striped and narrownose smoothhound sharks) and 2017 (common and blackchin guitarfishes). Categories of requested information include: (1) species biology including, but not limited to, abundance, population trends, demographics, distribution, and diversity; (2) habitat conditions including, but not limited to, amount, distribution, suitability, and important features for conservation; (3) degree, nature, and trends of threats to the species and its habitats, especially those factors described in section 4(a)(1) of the ESA; (4) conservation efforts that have been implemented to benefit the species, including monitoring data demonstrating the effectiveness of such efforts; and (5) other information, data, or corrections including taxonomic or nomenclatural changes and improved analytical methods for evaluating extinction risk.

We request that all information be accompanied by supporting documentation such as maps, bibliographic references, or reprints of pertinent publications. Please submit all information and supporting documentation electronically (see ADDRESSES section).

Authority: 16 U.S.C. 1531 et seq.

Dated: April 14, 2025.
Kimberly Damon-Randall,
Director, Office of Protected Resources, National Marine Fisheries Service.

[FR Doc. 2025-06590 Filed 4-16-25; 8:45 am]

BILLING CODE 3510-22-P